DEPARTMENT OF THE INTERIOR

Fish and Wildlife Service

[FWS-R9-EA-2011-N050; 81331-1334-8TWG-W4]

Wildlife and Hunting Heritage Conservation Council Teleconference; Cancellation

AGENCY: Fish and Wildlife Service, Interior.

ACTION: Notice of teleconference; cancellation.

SUMMARY: We, the U.S. Fish and Wildlife Service (Service), announce our cancellation of a public teleconference of the Wildlife and Hunting Heritage Conservation Council (Council). The teleconference was to have taken place on March 23, 2011. When we reschedule the teleconference, we will announce the new date and time to the public.

DATES: The teleconference was scheduled to be held March 23, 2011. We will reschedule the teleconference at a later date.

FOR FURTHER INFORMATION CONTACT: Joshua Winchell, Council Coordinator, 4401 N. Fairfax Dr., Mailstop 3103-AEA, Arlington, VA 22203; (703) 358-2639 (phone); (703) 358-2548 (fax); or joshua_winchell@fws.gov (e-mail).

SUPPLEMENTARY INFORMATION: In accordance with the requirements of the Federal Advisory Committee Act, 5 U.S.C. App., the Council was formed in February 2010, to provide advice about wildlife and habitat conservation endeavors. For more information about the Council, see our March 4, 2011, Federal Register notice (76 FR 12130), or contact Joshua Winchell, Council Coordinator (FOR FURTHER INFORMATION CONTACT). Background information on the Council is also available at http://www.fws.gov/whhcc.

In a Federal Register notice published on March 4, 2011, we announced a Council teleconference to take place on March 23, 2011. However, we now announce that we must cancel that teleconference. We plan to reschedule the teleconference. When we reschedule, we will announce the new date and time in a new notice in the Federal Register. Primary objectives and agenda items of the teleconference will remain the same.

Dated: March 14, 2011.
Rowan W. Gould,
Acting Director.

[FR Doc. 2011-6899 Filed 3-23-11; 8:45 am]

BILLING CODE 4310-55-P